FEDERAL MARITIME COMMISSION

Notice of Agreements Filed

The Commission hereby gives notice of the filing of the following agreements under the Shipping Act of 1984. Interested parties may submit comments on the agreements to the Secretary, Federal Maritime Commission, Washington, DC 20573, within ten days of the date this notice appears in the Federal Register. Copies of the agreements are available through the Commission's Web site (http://www.fmc.gov) or by contacting the Office of Agreements at (202) 523-5793 or tradeanalysis@fmc.gov.

Agreement No.: 012067-004.

Title: U.S. Supplemental Agreement to HLC Agreement.

Parties: BBC Chartering & Logistics GmbH & Co. KG; Beluga Chartering GmbH; Chipolbrok; Clipper Project Ltd.; Hyndai Merchant Marine Co., Ltd.; Industrial Maritime Carriers, L.L.C.; Nordana Line A/S; and Rickmers-Linie GmbH & Cie. KG.

Filing Party: Wade S. Hooker, Esq.; 211 Central Park W; New York, NY 10024.

Synopsis: The amendment would add Safmarine Container Lines N.V. as a party to the HLC Agreement. The parties have requested expedited review.

Agreement No.: 012135.

Title: EUKOR Car Carriers, Inc./FOML Space Charter.

Parties: EUKOR Car Carriers, Inc. and FESCO Ocean Management Limited.

Filing Parties: Neal M Mayer, Esq.; Hoppel, Mayer & Coleman; 1050 Connecticut Avenue, NW., 10th Floor; Washington, DC 20036.

Synopsis: The Agreement authorizes EUKOR to charter space to FOML in the trade from the port of Tacoma, WA to Vladivostok, Russia at such rates and charges as the parties may agree, subject to an agreed minimum revenue requirement.

Agreement No.: 012136.

Title: HSDG/ML/MSC Space Charter Agreement.

Parties: Hamburg-Sud, A.P. Moller-Maersk A/S, and MSC Mediterranean Shipping Company S.A.

Filing Parties: Wayne R. Rohde, Esq.; Cozen O'Connor; 1627 I Street, NW.; Suite 1100; Washington, DC 20006-4007.

Synopsis: The Agreement authorizes Hamburg-Sud and Maersk to charter space to Med Shipping in the trade between U.S. Atlantic Coast ports and ports in Panama, Australia, and New Zealand. The parties requested expedited review.

By Order of the Federal Maritime Commission.
Dated: September 30, 2011.
Rachel E. Dickon,
Assistant Secretary.

[FR Doc. 2011-25774 Filed 10-4-11; 8:45 am]

BILLING CODE 6730-01-P